FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements (202) 523-5793 or tradeanalysis@fmc.gov.

Agreement No.: 201146-001.

Title: Agreement for the Termination of the Restated Lease and Operating Agreement between Broward County, Universal Maritime Service Corp., and Maersk, Inc.

Parties: Broward County (Florida); Maersk, Inc.; and Universal Maritime Service Corp.

Filing Party: Candace J. Running; Office of the County Attorney; Broward County; 1850 Eller Drive, Suite 502; Fort Lauderdale, FL 33316.

Synopsis: The agreement provides for the terms and conditions for terminating the parties' underlying lease.

By order of the Federal Maritime Commission.
Dated: August 15, 2008.
Karen V. Gregory,
Assistant Secretary.

[FR Doc. E8-19333 Filed 8-19-08; 8:45 am]

BILLING CODE 6730-01-P